ENVIRONMENTAL PROTECTION AGENCY

[FRL-9127-1]

New York State Prohibition of Discharges of Vessel Sewage; Receipt of Petition and Tentative Affirmative Determination

AGENCY: Environmental Protection Agency (EPA).

ACTION: Notice—Receipt of petition and tentative affirmative determination.

SUMMARY: Notice is hereby given that a petition has been received from the State of New York requesting a determination by the Regional Administrator, U.S. Environmental Protection Agency, that adequate facilities for the safe and sanitary removal and treatment of sewage from all vessels are reasonably available for the waterways of the New York State (NYS) Canal System, including the 524 linear miles of navigable waterways within the Erie, Oswego, Champlain, and Cayuga-Seneca canal segments, and including Onondaga, Oneida, and Cross Lakes. The waters of the proposed No Discharge Zone fall within the jurisdictions of the NYS Thruway Authority and NYS Canal Recreationway Commission.

The NYS Department of Environmental Conservation (NYSDEC) in collaboration with the New York State Canal Corporation, the New York Department of State, and the New York State Environmental Facilities Corporation prepared and submitted an application for the designation of a Vessel Waste No Discharge Zone. The NYSDEC certified the need for greater protection of the water quality. EPA hereby makes a tentative affirmative determination that adequate facilities for the safe and sanitary removal and treatment of sewage from all vessels are reasonably available for the New York State Canal System.

DATES: Comments regarding this tentative determination are due by April 14, 2010.

ADDRESSES: You may submit comments by any of the following methods:

• E-mail: chang.moses@epa.gov. Include “Comments on Tentative Affirmative Decision for NYS Canal NDZ” in the subject line of the message.

• Fax: 212-637-3891.

• Mail and Hand Delivery/Courier: Moses Chang, U.S. EPA Region 2, 290 Broadway, 24th Floor, New York, NY 10007-1866. Deliveries are only accepted during the Regional Office's normal hours of operation (8 a.m. to 5 p.m., Monday through Friday, excluding Federal holidays), and special arrangements should be made for deliveries of boxed information.

FOR FURTHER INFORMATION CONTACT: Moses Chang, (212) 637-3867, e-mail address: chang.moses@epa.gov.

SUPPLEMENTARY INFORMATION: Notice is hereby given that a petition has been received from the State of New York requesting a determination by the Regional Administrator, U.S. Environmental Protection Agency, pursuant to section 312(f)(3) of Public Law 92-500 as amended by Public Law 95-217 and Public Law 100-4, that adequate facilities for the safe and sanitary removal and treatment of sewage from all vessels are reasonably available for the NYS Canal System. Adequate pumpout facilities are defined as one pumpout station for 300-600 boats under the Clean Vessel Act: Pumpout Station and Dump Station Technical Guidelines (Federal Register, Vol. 59, No. 47, March 10, 1994). There are four distinct segments of the NYS Canal System.

Champlain Canal

The Champlain Canal encompasses an area from the Federal lock in Troy to Whitehall, NY. The total travel distance of this area is 60 miles and to travel the entire length takes approximately 7 hours. There are 276 slips available and 7 operating pumpouts on the Champlain Canal, which leads north to Lake Champlain, a large waterbody that is a No Discharge Zone (NDZ) for pumpout waste, as well as one which prohibits direct disposal of greywater. The 1:300 ratio would only require one pumpout, if the calculation were based solely on number of slips. The availability of seven for this canal meets the criteria for sufficient access, even accounting for transient traffic. The NYS side of Lake Champlain (a waterbody that has already been designated as a NDZ) has an additional 1,014 slips available and 10 additional pumpouts.

Erie Canal

The Erie Canal stretches from Waterford (at the confluence of the Mohawk and Hudson Rivers) to the Tonawandas (at the Niagara River), traveling through Oneida Lake and Cross Lake, and connecting to Onondaga Lake along the way. This portion of the Canal is 338 miles long and has 45 pumpouts available for 2,555 slips. Achieving a 1:300 ratio would require a minimum of nine pumpouts for the current number of slips, therefore, there are more than sufficient number of pumpouts for this canal segment as a whole.

Oswego Canal

The Oswego Canal is a 24-mile long stretch from the main Erie Canal up to the Port of Oswego and Lake Ontario. This section of the canal has 407 slips and three pumpouts, all located at the City of Oswego terminus. The travel time for the length of this segment is approximately two hours and 20 minutes. Along the way, the Minetto River View Park in Minetto and the Canal Park Marina in Fulton have restrooms available for boaters.

Cayuga-Seneca Canal

The Cayuga-Seneca Canal is a small, 12 mile-long section of the larger canal that veers from the main Erie Canal and intersects with two Finger Lakes—Cayuga and Seneca Lakes. It contains 582 slips and seven pumpouts. In addition, although the two lakes are not included in this NYS Canal NDZ application, there are 7 pumpouts in Cayuga and 5 pumpouts in Seneca available.

In conclusion, the criterion for established by the Clean Vessel Act regarding an adequate number of pumpouts per vessel population is 1 pumpout per 300-600 vessels. All areas and sections of the NYS Canal System meet or exceed this criterion.

There are 7 facilities located in the NYS Champlain Canal Segment as follows:

Name: Troy Motor Boat and the Canoe Club

Phone Number: 518-235-9697

Lat/Long: 42.767277/-73.68038

VHF Channel: 13

Dates of operation: May 1-October 31, Mon-Sun

Hours of Operation: 8:30 a.m.-Sunset

Facility Fee: $0.00

Vessel Size: 42′

Disposal/Treatment: Connection to Municipal System

Name: Lock 1 Marina

Phone Number: 518-238-1321

Lat/Long: 42.828375/-73.665992

VHF Channel: 13 & 60

Dates of Operation: May 1-October 31, Mon-Sun

Hours of Operation: 7 a.m.-9 p.m.

Facility Fee: $5.00

Vessel Size: 50′

Disposal/Treatment: Holding Tank

Name: City of Mechanicville—Municipal Dock

Phone Number: 518-664-7171

Lat/Long: 42.904317/-73.683892

VHF Channel: N/A

Dates of Operation: April-November, Mon-Sun

Hours of Operation: 24 Hours

Facility Fee: $0.00

Vessel Size: 60′

Disposal/Treatment: Connection to Municipal System

Name: Schuyler Yacht Basin

Phone Number: 518-695-3193

Lat/Long: 43.098056/-73.575833

VHF Channel: 9 & 16

Dates of Operation: May 1-October 15, Mon-Sun

Hours of Operation: 7 a.m.-7 p.m

Facility Fee: $5.00

Vessel Size: 85′

Disposal/Treatment: Connection to Municipal System

Name: Schuyler Yacht Basin Replacement

Phone Number: 518-695-3193

Lat/Long: 43.097778/-73.575278

VHF Channel: 9 & 16

Dates of Operation: May 1-October 15, Mon-Sun

Hours of Operation: 7 a.m.-7 p.m

Facility Fee: $5.00.

Name: Lock 12 Marina, Inc

Phone Number: 518-499-2049

Lat/Long: 43.559722/-73.399167

VHF Channel: 9 & 16

Dates of Operation: May 15-October 15

Hours of Operation: 8 a.m.-4 p.m.

Facility Fee: $5.00

Vessel Size: 60′

Disposal/treatment: Connection to Municipal System

Name: Whitehall Marina

Phone Number: 518-499-9700

Lat/Long: 43.558861/-73.401381

VHF Channel: 13 & 16

Dates of Operation: May 1-November 1, Mon-Sun

Hours of Operation: 7 a.m.-7 p.m.

Facility Fee: $7.50

Vessel Size: 65′

Disposal/Treatment: Connection to Municipal System

The following 8 pumpouts are located on the New York side of Lake Champlain which is already designated as a NDZ

Name: Chazy River Marina

Phone Number: 518-572-2280

Lat/Long: 44.935414/-73.396475

VHF Channel: 9 & 16

Dates of Operation: May 15-October 1, Mon-Sun

Hours of Operation: 8 a.m.-5 p.m

Facility Fee: $5.00

Vessel Size: 36′

Disposal/Treatment: Holding Tank

Name: Chazy Yacht Club Inc

Phone Number: 518-298-2866

Lat/Long: 44.934336/-73.393922

VHF Channel: 22

Dates of Operation: May 15-October 31, Mon-Sun

Hours of Operation: 9 a.m.-6 p.m.

Facility Fee: $ 5.00

Vessel Size: 50′

Disposal/Treatment: Holding Tank

Name: Gilbert Brook Marina (Monty's Bay Recreation)

Phone Number: 518-846-7342

Lat/Long: 44.83/-73.402779

VHF Channel: 68

Dates of Operation: May 1-October 15, Mon-Sun

Hours of operation: 9 a.m.-5 p.m.

Facility Fee: $5.00

Vessel Size: 36′

Disposal/Treatment: Connection to Municipal System

Name: NYSDEC—Peru Dock Boat Launch Site

Phone Number: 518-897-1343

Lat/Long: 44.605911/-73.438421

VHF Channel: None

Dates of Operation: Memorial Day-Columbus Day, Mon-Sun

Hours of Operation: 24 Hours

Facility Fee: $0.00

Vessel Size: Unknown

Disposal/Treatment: Connection to Municipal System

Name: NYSDEC—Ticonderoga Boat Launch Site

Phone Number: 518-897-1343

Lat/Long: 43.853408/-73.385131

VHF Channel: None

Dates of Operation: Memorial Day-Columbus Day, Mon-Sun

Hours of Operation: 24 Hours

Facility Fee: $0.00

Vessel Size: Unknown

Disposal/Treatment: Holding Tank

Name: NYSDEC—Willsboro Boat Launch Site

Phone Number: 518-897-1343

Lat/Long: 44.400169/-73.390314

VHF Channel: None

Dates of Operation: Memorial Day-Columbus Day, Mon-Sun

Hours of Operation: 24 Hours

Facility Fee: $0.00

Vessel Size: Unknown

Disposal/Treatment: Holding Tank

Name: Treadwell Bay Marina & Resort

Phone Number: 518-563-1321

Lat/Long: 44.748153/-73.413267

VHF Channel: 9, 16 & 68

Dates of Operation: May 1-October 1, Mon-Sun

Hours of Operation: 8 a.m.-8 p.m. (Summer)

Facilities Fee: $5.00

Vessel Size: Unlimited

Disposal/Treatment: Holding Tank

Name: Willsboro Bay Marina, Inc

Phone Number: (518) 963-7276

Lat/Long: 44.405106/-73.39655

VHF Channel: 9

Dates of Operation: May-October 15, Fri-Tues/closed Wed & Thurs (Fall Hours)

Hours of Operation: 8 a.m.-4:30 p.m.

Facility Fee: $5.00

Vessel Size: 60′

Pumpout Capacity: N/A

Disposal/Treatment: Connection to Municipal System

The facilities located in the NYS Erie Canal Segment are as follow:

Name: Albany Marine Service Marina

Phone Number: (518) 783-5333

Lat/Long: 42.820719/−73.727322

VHF Channel: 16

Dates of Operation: May-October, Mon-Sun

Hours of Operation: 8 a.m.-6 p.m. Sun (10:30 a.m.-2 p.m.)

Facility Fee: $5.00

Vessel Size: 50′

Disposal/Treatment: Holding Tank

Name: Blain's Bay Marina

Phone Number: (518) 785-6785

Lat/Long: 42.794164/−73.755733

VHF Channel: 13

Dates of Operation: May-October, Mon-Sun

Hours of Operation: 9 a.m.-5 p.m.

Facility Fee: $5.00

Vessel Size: 55′

Disposal/Treatment: Holding Tank

Name: Diamond Reef Yacht Club

Phone Number: (518) 371-2716

Lat/Long: 42.794297/−73.760981

VHF Channel: 68

Dates of Operation: April-October, Mon-Sun

Hours of Operation: 9 a.m.-5 p.m.

Facility Fee: $5.00

Vessel Size: 40′

Disposal/Treatment: Connection to Municipal System

Name: Village of Waterford

Phone Number: (518) 237-0651

Lat/Long: 42.787608/−73.6798

VHF Channel: None

Dates of Operation: May 1-November 15, Mon-Sun

Hours of Operation: 24 Hours

Facility Fee: $1.00

Vessel Size: 60′

Disposal/Treatment: Connection to Municipal System

Name: Schenectady Yacht Club, Inc.

Lat/Long: 42.850978/−73.88734723

VHF Channel: 16

Facility Fee: $0.00

Name: Arrowhead Marina & RV Park Inc.

Phone Number: (518) 382-8966

Lat/Long: 42.849136/−74.013231

VHF Channel: 13

Dates of Operation: May 15-October 15, Mon-Sun

Hours of Operation: 9 a.m.-5 p.m.

Facility Fee: $5.00

Vessel Size: 100′

Disposal/Treatment: Holding Tank

Name: City of Amsterdam-Riverlink Park

Phone Number: (518) 841-4311

Lat/Long: 42.93435/−74.19101

VHF Channel: None

Dates of Operation: May 1-October 1, Mon-Sun

Hours of Operation: 11 a.m.-7 p.m.

Facility Fee: $0.00

Vessel Size: NA

Pumpout Capacity: NA

Disposal/Treatment: Connection to Municipal System

Name: Village of St. Johnsville Marina

Phone Number: (518) 568-7406

Lat/Long: 42.994558/−74.678931

VHF Channel: 13

Dates of Operation: April 1-October 31, Mon-Sun

Hours of Operation: 8 a.m.-8 p.m.

Facility Fee: $5.00

Vessel Size: Unlimited

Disposal/Treatment: Connection to Municipal System

Name: Little Falls Canal Harbor

Phone Number: (315) 823-2400

Lat/Long: 43.034692/−74.865492

Facility Fee: $0.00

Name: NYS Canal Corp—Frankfort Harbor Marina

Phone Number: (315) 894-1238

Lat/Long: 43.041175/−75.069503

VHF Channel: None

Dates of Operation: April-November, Mon-Fri

Hours of Operation: 24 Hours

Facility Fee: $1.75

Vessel Size: 20′

Disposal/Treatment: Connection to Municipal System

Name: Village of llion Marina—Pumpout Transfer Name

Phone Number: (315) 894-9421

Lat/Long: 43.019623/−75.02821945

Dates of Operation: May-October, Monday-Sunday

Hours of Operation: 8 a.m.-6 p.m.

Facility Fee: $0.00

Vessel Size: NA

Disposal/Treatment: Holding Tank

Name: Riverside Marina, Inc.

Phone Number: (315) 271-7263

Lat/Long: 43.195972/−75.437583

VHF Channel: None

Dates of Operation: April-November, Mon-Sun

Hours of Operation: 24 Hours

Facility Fee: $5.00

Vessel Size: Unlimited

Disposal/Treatment: Connection to Municipal System

Name: Skinner's Harbour Marina (Mariner's Landing)

Lat/Long: 43.197778/−75.726111

VHF Channel: EN

Days of Operation: Mon-Sun

Hours of Operation: 8 a.m.-8 p.m.

Facility Fee: $0.00

Disposal/Treatment: Connection to Municipal System

Name: Callahan's Marina

Phone Number: (315) 687-9729

Lat/Long: 43.162589/−75.760906

VHF Channel: None

Dates of Operation: April-October, Mon-Sun

Hours of Operation: 24 Hour

Facility Fee: $5.00

Vessel Size: 35′

Disposal/Treatment: Connection to Municipal System

Name: Fremac Marine Sales & Service, Inc.

Phone Number: (315) 633-2661

Lat/Long: 43.151272/−75.875583

VHF Channel: None

Dates of Operation: April-October, Mon-Sun

Hours of Operation: 9 a.m.-5 p.m.

Facility Fee: $5.00

Vessel Size: 30′

Disposal/Treatment: Connection to Municipal System

Name: Fisher Bay Marina

Lat/Long: 43.176389/−75.981111

VHF Channel: NA

Facility Fee: $0.00

Name: Boathouse Marina & Restaurant

Phone Number: (315) 623-7642

Lat/Long: 43.246611/−75.997889

VHF Channel: None

Dates of Operation: April 1-November 15

Hours of Operation: 10 a.m.-8 p.m.

Facility Fee: $0.00

Vessel Size: 40′

Disposal/Treatment: Holding Tank

Name: Aero Marina Conway Inc.

Phone Number: (315) 699-7736

Lat/Long: 43.208269/−76.078169

VHF Channel: 16

Dates of Operation: May-October, Mon-Sun

Hours of Operation: 4 p.m.-8 p.m.

Facility Fee: $5.00

Vessel Size: 50′

Pumpout Capacity: N/A

Disposal/Treatment: Connection to Municipal System

Name: Trade-A-Yacht, Inc. East (Brewerton)

Phone Number: (315) 676-3532

Lat/Long: 43.240231/−76.128986

VHF Channel: 16

Dates of Operation: April 1-November 1, Mon-Sun

Hours of Operation: 24 Hours

Facility Fee: $0.00

Vessel Size: 60′

Disposal/Treatment: Connection to Municipal System

Name: Brewerton Boat Yard, Inc.

Phone Number: (315) 676-3762

Lat/Long: 43.239569/−76.145167

VHF Channel: 9

Dates of Operation: May 15-November 15, Mon-Sun

Hours of Operation: 24 Hours

Facility Fee: $0.00

Vessel Size: Unlimited

Disposal/Treatment: Connection to Municipal System

Name: Ess-Kay Yards, Inc.—Name #1

Phone Number: (315) 676-2711

Lat/Long: 43.239472/−76.150103

VHF Channel: 16

Dates of Operation: April-November, Mon-Sun

Hours of Operation: 9 a.m.-8 p.m.

Facility Fee: $5.00

Vessel Size: 160′

Disposal/Treatment: Connection to Municipal System

Name: Winter Harbor

Phone Number: (315) 676-9276

Lat/Long: 43.243686/−76.160089

VHF Channel: 16

Dates of Operation: April 15-November 15, Mon-Sun

Hours of Operation: 9 a.m.-5 p.m.

Facility Fee: $5.00

Vessel Size: Unlimited

Disposal/Treatment: Holding Tank

Name: Winter Harbor Pumpouts #3 & #4—2007

Phone Number: (315) 676-9276

Lat/Long: 43.243956/−76.159669

VHF Channel: 16

Dates of Operation: April 15-November 15, Mon-Sun

Hours of Operation: 9 a.m.-5 p.m.

Facility Fee: $5.00

Vessel Size: Unlimited

Disposal/Treatment: Holding Tank

Name: Pirates Cove Marina, Inc.

Phone Number: (315) 695-3901

Lat/Long: 43.214486/−76.244867

VHF Channel: 16

Dates of Operation: April 1-November 1, Mon-Sun

Hours of Operation: 24 Hours

Facility Fee: $5.00

Vessel Size: 85′

Disposal/Treatment: Holding Tank

Name: County of Onondaga—P & R—Onondaga Lake Park M

Phone Number: (315) 453-6712

Lat/Long: 43.101094/−76.211103

VHF Channel: 16

Dates of Operation: April 1-September 30, Mon-Sun

Hours of Operation: 24 Hours

Facility Fee: $6.50

Vessel Size: Unlimited

Disposal/Treatment: Connection to Municipal System

Name: Cold Springs Harbor (Baldwinsville, NY)

Phone Number: NA

Lat/Long: 43.127378/−76.257536

Facility Fee: $0.00

Name: J & S Marine

Phone Number: (315) 622-1095

Lat/Long: 43.123358/−76.264567

Facility Fee: $0.00

Vessel Size: 85′

Name: Sun Harbor Marina

Lat/Long: 43.123406/−76.266144

Facility Fee: $0.00

Name: Coopers Marina, Inc.

Phone Number: (315) 635-7371

Lat/Long: 43.162361/−76.347658

VHF Channel: N/A

Dates of Operation: April 1-November 1, Mon-Sun

Hours of Operation: 24 Hours

Facility Fee: $5.00

Vessel Size: Unlimited

Disposal/Treatment: Connection to Municipal System

Name: Midway Marina & Service

Lat/Long: 43.072211/−76.548915

Facility Fee: $0

Name: Village of Newark—T. Spencer Knight Park

Phone Number: (315) 331-6199

Lat/Long: 43.047669/−77.092483

VHF Channel: N/A

Dates of Operation: May 1-November 15, Mon-Sun

Hours of Operation: 24 Hours

Facility Fee: $0.00

Vessel Size: 45′

Disposal/Treatment: Connection to Municipal System

Name: Village of Palmyra—Marin

Phone Number: (315) 597-4849

Lat/Long: 43.066944/−77.2291676

VHF Channel: None

Dates of Operation: April 1-October 1, Mon-Sun

Hours of Operation: 24 Hours

Facility Fee: $1.00

Vessel Size: 50′

Disposal/Treatment: Connection to Municipal System

Name: Mid-Lakes Erie Macedon Landing

Phone Number: (800) 808-4511

Lat/Long: 43.076678/−77.323608

VHF Channel: 13

Dates of Operation: May 1-November 15, Mon-Sun

Hours of Operation: Sun-Thurs 8 a.m.-5 p.m.; Fri-Sat 8 a.m.-7 p.m.

Facility Fee: $0.00

Vessel Size: 40′

Disposal/Treatment: Connection to Municipal System

Name: Packett's Landing Canal Park (Fairport, NY)

Lat/Long: 43.100742/-77.440136

Dates of Operation: Memorial Day—November 1

Facility Fee: $0.00

Name: Village of Pittsford

Phone Number: (585) 586-9320

Lat/Long: 43.093672/−77.516136

VHF Channel: None

Dates of Operation: April 1-November 1, Mon-Sun

Hours of Operation: 24 Hours

Facility Fee: $0.00

Vessel Size: 60′

Disposal/Treatment: Connection to Municipal System

Name: Village of Spencerport—Marina

Phone Number: (585) 352-4771

Lat/Long: 43.1935669/−77.800469

VHF Channel: None

Dates of Operation: April 1-November 30, Mon-Sun

Hours of Operation: 24 Hours

Facility Fee: $0.00

Vessel Size: Unlimited

Disposal/Treatment: Connection to Municipal System

Name: Brockport Lift Bridge

Lat/Long: 43.216898/−77.938367

Facility Fee: $0.00

Name: Village of Holley

Phone Number: (585) 303-5512

Lat/Long: 43.228889/−78.021778

VHF Channel: None

Dates of Operation: May 1-October 25, Mon-Sun

Hours of Operation: 24 Hour

Facility Fee: $0.00

Vessel Size: Unlimited

Disposal/Treatment: Connection to Municipal System

Name: Village of Medina—Canal Basin

Phone Number: (585) 798-1790

Lat/Long: 43.221169/−78.385531

VHF Channel: None

Dates of Operation: April-November, Mon-Sun

Hours of Operation: 24 Hours

Facility Fee: $0.00

Vessel Size: Unlimited

Disposal/Treatment: Connection to Municipal System

Name: Gasport Marina

Phone Number: (716) 772-2964

Lat/Long: 43.201617/−78.557633

VHF Channel: 13

Dates of Operation: April-November, Mon-Sun

Hours of Operation: 8 a.m.-6 p.m.

Facility Fee: $5.00

Vessel Size: 40′

Disposal/Treatment: Connection to Municipal System

Name: Nelson C. Goehle Marine Park

Phone Number: (716) 439-6624

Lat/Long: 43.184979/−78.668337

Facility Fee: $0.00

Name: Town of Amherst—Amherst Veteran's Canal Park

Phone Number: (716) 631-7113

Lat/Long: 43.064917/−78.803208

VHF Channel: 19

Dates of Operation: May-October, Mon-Fri

Hours of Operation: 7 a.m.-3 p.m.

Facility Fee: $5.00

Vessel Size: Unlimited

Disposal/Treatment: Holding Tank

Name: City of Tonawanda—Gateway Harbor

Phone Number: (716) 695-8658

Lat/Long: 43.021661/−78.874394

VHF Channel: 13 & 16

Dates of Operation: May 1-September 30, Mon-Sun

Hours of Operation: Mon-Fri (3 p.m.-9 p.m.); Sat & Sun (12 p.m.-9 p.m.)

Facility Fee: $2.00

Vessel Size: 50′

Disposal/Treatment: Connection to Municipal System

Name: Inner Harbor Yacht Club

Phone Number: (716) 692-9920

Lat/Long: 43.019894/−78.873939

VHF Channel: 16

Dates of Operation: May 1-October 31, Mon-Sun

Hours of Operation: 8 a.m.-5 p.m.

Facility Fee: $5.00

Vessel Size: 30′

Disposal/Treatment: Connection to Municipal System

Name: Wardell Boat Yard

Phone Number: (716) 692-9428

Lat/Long: 43.022306/−78.880361

VHF Channel: None

Dates of Operation: March-November, Mon-Sun

Hours of Operation: 8 a.m.-8 p.m.

Facility Fee: $5.00

Vessel Size: 70′

Disposal/Treatment: Holding Tank

Name: City of Rochester—River St. Waterfront Name

Phone Number: (585) 303-9644

Lat/Long: 43.24911/−77.611669

VHF Channel: 16

Dates of Operation: January-December, Mon-Sun

Hours of Operation: 24 Hours

Facility Fee: $0.00

Vessel Size: 88′

Disposal/Treatment: Connection to Municipal System

The facilities located in the NYS Cayuga-Seneca Canal Section, Cayuga Lake and Seneca Lake pumpouts are as follow:

Name: Troy's Marina & Campground (Cayuga, NY)

Lat/Long: 42. 856781/−76.7042972

Facility Fee: $0.00

Name: Trade-A-Yacht, Inc.—Hibiscus Harbor

Phone Number: (315) 889-5086

Lat/Long: 42.856781/−76.706081

VHF Channel: 16

Dates of Operation: April 1-November 1, Mon-Sun

Hours of Operation: 24 Hours

Facility Fee: $5.00

Vessel Size: 60′

Disposal/Treatment: Holding Tank

Name: Castelli's Marina Inc.

Phone Number: (315) 889-5532

Lat/Long: 42.839778/−76.695769

VHF Channel: 16

Dates of Operation: April 15-October 15, Mon-Sat

Hours of Operation: 9 a.m.-4:30 p.m.

Facility Fee: $5.00

Vessel Size: 40′

Disposal/Treatment: Connection to Municipal System

Name: NYSOPRHP—Taughannock Falls State Park

Phone Number: (607) 387-6739

Lat/Long: 42.547636/−76595714

VHF Channel: None

Dates of Operation: March-October 15

Hours of Operation: N/A

Facility Fee: $0.00

Vessel Size: 50′

Disposal/Treatment: On-Site Septic System

Name: Pinney's Marina

Phone Number: (607) 533-4889

Lat/Long: 42.564683/−76.591064

VHF Channel: None

Dates of Operation: May-October, Mon-Sun

Hours of Operation: 24 Hours

Facility Fee: $0.00

Vessel Size: None

Disposal/Treatment: Holding Tank

Name: NYSOPRHP—Alan H. Treman State Marine Park

Phone Number: (607) 273-3440

Lat/Long: 42.458467/-76.513033

VHF Channel: None

Dates of Operation: May 1-October 15, Mon-Sun

Hours of Operation: 24 Hours

Facility Fee: $2.00

Vessel Size: 50′

Disposal/Treatment: Connection to Municipal System

Name: Johnson Boat Yard (dba)—Pierce Cleveland, Inc.

Phone Number: (607) 272-5191

Lat/Long: 42.452369/-76.510231

VHF Channel: 16

Dates of Operation: April 1-November 1, Mon-Sun

Hours of Operation: Mon-Sat (9 a.m.-5 p.m.); Sun (9 a.m.-4 p.m.)

Facility Fee: $0.00

Vessel Size: Unlimited

Disposal/Treatment: Connection to Municipal System

Name: Village of Seneca Falls

Phone Number: (315) 568-8107

Lat/Long: 42.909675/-76.795863

VHF Channel: None

Dates of Operation: May 1-November 1, Mon-Sun

Hours of Operation: 24 Hours

Facility Fee: $2.00

Vessel Size: 50′

Disposal/Treatment: Connection to Municipal System

Name: Village of Waterloo—Oak Island Marina Facility

Phone Number: (315) 539-9131

Lat/Long: 42.900983/-76.866894

VHF Channel: None

Dates of Operation: April 1-October 1, Mon-Sun

Hours of Operation: 24 Hours

Facility Fee: $0.00

Vessel Size: 25′

Disposal/Treatment: Connection to Municipal System

Name: Barrett Marine, Inc.

Phone Number: (800) 924-8940

Lat/Long: 42.874167/-76.935906

VHF Channel: 16

Dates of Operation: April 15-October 15, Mon-Sun

Hours of Operation: 8 a.m.-7 p.m.

Facility Fee: $5.00

Vessel Size: Unlimited

Disposal/Treatment: Empty to Existing Pumpout

Name: Barrett Marine, Inc.—Stationary

Phone Number: (800) 924-8940

Lat/Long: 42.874167/-76.935906

VHF Channel: None

Dates of Operation: Year Round, Mon-Sun

Hours of Operation: Mon-Sat (8 a.m.-7 p.m.); Sun (9 a.m.-6 p.m.)

Facility Fee: $0.00

Vessel Size: 50′

Disposal/Treatment: On-Site Septic System

Name: NYSOPRH—Seneca Lake State Park

Phone Number: (315) 789-2331

Lat/Long: 42.870575/-76.939667

VHF Channel: None

Dates of Operation: April 1-September 30, Mon-Sun

Hours of Operation: 24 Hours

Facility Fee: $2.00

Vessel Size: 40′

Disposal/Treatment: On-Site Septic System

Name: Stivers Seneca Marina

Phone Number: (315) 789-5520

Lat/Long: 42.868925/−76.939064

VHF Channel: 18

Dates of Operation: May 1-Labor Day, Mon-Sun

Hours of Operation: 7 a.m.-9 p.m.

Facility Fee: $5.00

Vessel Size: 50′

Disposal/Treatment: Connection to Municipal System

Name: Stivers Seneca Marina Boat

Phone Number: (315) 789-5520

Lat/Long: 42.868889/−76.939444

VHF Channel: 18

Dates of Operation: May 1-Labor Day, as scheduled or as service requested

Hours of Operation: As scheduled or as service requested

Facility Fee: $0.00

Vessel Size: N/A

Disposal/Treatment: Connection to Municipal System

Name: NYSOPRHP—Samson State Park Marina (Romulus, NY)

Lat/Long: 42.4247/−76.9119

Facility Fee: $0.00

Name: Ervay's Inc. Full Service Marina

Phone Number: (607) 535-2671

Lat/Long: 42.370636−76.859106

VHF Channel: None

Dates of Operation: April-November, Mon-Sun

Hours of Operation: 9 a.m.-5 p.m.

Facility Fee: $5.00

Vessel Size: Unlimited

Disposal/Treatment: On-site Septic System

Name: Glen Harbor Marina (Watkins Glen, NY)

Lat/Long: 42.383099/−76.861575

Facility Fee: $0.00

Name: Village Marina

Phone Number: (607) 546-8505

Lat/Long: 42.3846306/−76.8716972

VHF Channel: 16

Dates of Operation: June-October, Mon-Sun

Hours of Operation: 11 a.m.-6 p.m.

Facility Fee: $5.00

Vessel Size: 45′

Disposal/Treatment: Connection to Municipal System

Name: Village of Montour Falls—Municipal Marina

Phone Number: (607) 535-9580

Lat/Long: 42.354167/−76.853333

VHF Channel: None

Dates of Operation: May 2-October 15, Mon-Sun

Hours of Operation: 7 a.m.-7 p.m.

Facility Fee: $5.00

Vessel Size: Unknown

Disposal/Treatment: Connection to Municipal System

The facilities located in the NYS Oswego Canal Segment are as follows:

Name: City of Oswego—Wrights Landing Muni-Dump Station

Phone Number: (315) 342-8186

Lat/Long: 43.463447/−76.579444

VHF Channel: None

Dates of Operation: April 1- November 11, Mon-Sun

Hours of Operation: 4 a.m.-10 p.m.

Facility Fee: $0.00

Vessel Size: 50′

Disposal/Treatment: Connection to Municipal System

Name: Coal Trestle Marina—Oswego Marina Management

Phone Number: (315) 343-1967

Lat/Long: 43.461289/−76.510367

VHF Channel: 16

Dates of Operation: Memorial Day-Labor Day, Mon-Sun

Hours of Operation: 8:30 a.m.-8 p.m.

Facility Fee: $5.00

Vessel Size: 100′

Disposal/Treatment: Connection to Municipal System

Name: Oswego Marina—Grawl Enterprises, Inc.

Phone Number: (315) 343-1967

Lat/Long: 43.461289/−76.510376

VHF Channel: 16

Dates of Operation: Memorial Day-Labor Day, Mon-Sun

Hours of Operation: 8:30 a.m.-8 p.m.

Facility Fee: $0.00

Vessel Size: 100′

Pumpout Capacity: N/A

Disposal/Treatment: Connection to Municipal System

EPA hereby makes a tentative affirmative determination that adequate facilities for the safe and sanitary removal and treatment of sewage from all vessels are reasonably available for the waters of the New York State Canal System, including the 524 linear miles of navigable waterways within Erie, Oswego, Champlain, and Cayuga-Seneca canal segments, and including Onondaga, Oneida, and Cross Lakes. A 30-day period for public comment has been opened on this matter which may result in a prohibition of all sewage discharges from vessels in the above-described NYS Canal System in New York.

Dated: March 4, 2010.
Judith A. Enck,
Regional Administrator, Region 2.

[FR Doc. 2010-5586 Filed 3-12-10; 8:45 am]

BILLING CODE 6560-50-P